FEDERAL COMMUNICATIONS COMMISSION

[CC Docket No. 92-237; DA 05-2753]

GSA Approves Renewal of North American Numbering Council Charter Through September 26, 2007

AGENCY: Federal Communications Commission.

ACTION: Notice.

SUMMARY: On October 25, 2005, the Commission released a public notice announcing GSA approves renewal of North American Numbering Council charter through September 26, 2007. The intended effect of this action is to make the public aware of the renewal of the North American Numbering Council charter.

DATES: Renewed through September 26, 2007.

ADDRESSES: Telecommunications Access Policy Division, Wireline Competition Bureau, Federal Communications Commission, The Portals II, 445 12th Street, SW., Suite 5-A420, Washington, DC 20554.

FOR FURTHER INFORMATION CONTACT: Deborah Blue, Special Assistant to the Designated Federal Officer (DFO) at (202) 418-1466 or Deborah.Blue@fcc.gov. The fax number is: (202) 418-2345. The TTY number is: (202) 418-0484.

SUPPLEMENTARY INFORMATION: Released October 25, 2005.

The GSA has renewed the charter of the North American Numbering Council (Council) through September 26, 2007. The Council will continue to advise the Federal Communications Commission (Commission) on rapidly evolving and competitively significant numbering issues facing the telecommunications industry.

In October 1995, the Commission established the North American Numbering Council, a federal advisory committee created pursuant to the Federal Advisory Committee Act, 5 U.S.C., App. 2 (1988), to advise the Commission on issues related to North American Numbering Plan (NANP) administration in the United States, including local number portability administration issues. The original charter of the Council was effective on October 5, 1995, establishing an initial two-year term. Amended charters were filed on October 5, 1997, October 5, 1999, October 5, 2001, and October 5, 2003, each renewing the term of the charter for an additional two years.

Since the last charter renewal, the Council has provided the Commission with critically important recommendations regarding numbering issues. During the term of the prior amended charter, the Council made recommendations on issues which included: (1) NANC Local Number Portability Administrator (LNPA) Change Orders 399 and 400—changes to the software used by the Number Portability Administration Center; (2) Request for Commission Endorsement of Two LNPA Position Papers; (3) NANC acceptance of new members of NeuStar's Board of Directors; (4) Process Flow Change Based on the Industry Numbering Committee Issue 407 (CC Docket No. 99-200); (5) NeuStar's Request for Modification of Prior Approval Policies; (6) Intermodal Porting Intervals; (7) Treatment of NANP Administration Funds; (8) The NANC's Issue Management Group Report on the Impact of a 25% Number Pooling Contamination Threshold; (9) Abbreviated Dialing for One Call Notification; and (10) Amendment of the LNP Provisioning Flows Narrative to include a footer statement and timer change. The Council also provided detailed evaluations of the North American Numbering Plan Administrator (NANPA) and the Pooling Administrator (PA). The Council will continue to evaluate the NANPA's and the PA's performances annually.

Moreover, the Council is presently considering and formulating recommendations on other important numbering-related issues that will require work beyond the term of the present charter. The term of the Council's renewed charter begins September 26, 2005 and runs through September 26, 2007.

The value of this federal advisory committee to the telecommunications industry and to the American public cannot be overstated. Numbers are the means by which consumers gain access to, and reap the benefits of, the public switched telephone network. The Council's recommendations to the Commission will facilitate fair and efficient numbering administration in the United States, and will ensure that numbering resources are available to all telecommunications service providers on a fair and equitable basis, consistent with the requirements of the Telecommunications Act of 1996.

Federal Communications Commission.
James Bachtell,
Attorney, Telecommunications Access Policy Division, Wireline Competition Bureau.

[FR Doc. 05-21612 Filed 11-1-05; 8:45 am]

BILLING CODE 6712-01-P